DEPARTMENT OF ENERGY

Federal Energy Regulatory Commission

[Docket No. IS20-90-000]

Notice of Tariff Filing: Enterprise TE Products Pipeline Company LLC

Take notice that on November 26, 2019, Enterprise TE Products Pipeline Company LLC (Enterprise TE) filed Tariff 54.49.0 to extend emergency transportation service of propane from Mont Belvieu, Texas to Monee, Illinois. Enterprise TE states it has received additional requests from third-party Shippers to continue propane service for a period of time beyond the original date on which Enterprise TE intended to terminate the propane service. Enterprise TE states in order to continue to assist in alleviating these conditions, and as agreed by Enterprise TE at the alternative dispute resolution procedures meeting convened by Commission Staff on November 25, 2019, Enterprise TE is filing to extend the availability of propane service on the segment. Enterprise TE seeks waiver pursuant to 18 CFR 341.14 of the notice requirements in section 6(3) of the Interstate Commerce Act to make the tariff effective December 13, 2019.

Notice is given that the deadline pursuant to 18 CFR 343.3 for filing protests to Enterprise TE filing is hereby shortened to and including December 4, 2019. The deadline for filing responses is shortened to and including December 6, 2019.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date.

The Commission encourages electronic submission of protests and interventions in lieu of paper using the “eFiling” link at http://www.ferc.gov. Persons unable to file electronically should submit an original and 5 copies of the protest or intervention to the Federal Energy Regulatory Commission, 888 First Street NE, Washington, DC 20426.

This filing is accessible on-line at http://www.ferc.gov, using the “eLibrary” link and is available for review in the Commission's Public Reference Room in Washington, DC. There is an “eSubscription” link on the website that enables subscribers to receive email notification when a document is added to a subscribed docket(s). For assistance with any FERC Online service, please email FERCOnlineSupport@ferc.gov, or call (866) 208-3676 (toll free). For TTY, call (202) 502-8659.

Protest Date: 5:00 p.m. Eastern time on December 4, 2019.

Response Date: 5:00 p.m. Eastern time on December 6, 2019.

Dated: November 27, 2019.
Nathaniel J. Davis, Sr.,
Deputy Secretary.

[FR Doc. 2019-26202 Filed 12-3-19; 8:45 am]

BILLING CODE 6717-01-P